DEPARTMENT OF TRANSPORTATION

Federal Aviation Administration

14 CFR Part 39

[Docket No. FAA-2005-22455; Directorate Identifier 2005-NM-095-AD]

RIN 2120-AA64

Airworthiness Directives; Airbus Model A300 B4-600, B4-600R, and F4-600R Series Airplanes, and Model C4-605R Variant F Airplanes (Collectively Called A300-600 Series Airplanes); and Model A310-300 Series Airplanes

AGENCY: Federal Aviation Administration (FAA), Department of Transportation (DOT).

ACTION: Notice of proposed rulemaking (NPRM).

SUMMARY: The FAA proposes to adopt a new airworthiness directive (AD) for certain Airbus Model A300 B4-600, B4-600R, and F4-600R series airplanes, and Model C4-605R Variant F airplanes (collectively called A300-600 series airplanes); and Model A310-300 series airplanes. This proposed AD would require inspecting the pilot's and co-pilot's seats to determine if a certain actuator having a certain part number is installed, and corrective action if necessary. This proposed AD results from a production defect found in certain actuators during overhaul of the pilot's and co-pilot's seats. We are proposing this AD to prevent uncommanded movement of the pilot's or co-pilot's seat, which could result in interference with the operation of the airplane and consequent temporary loss of airplane control.

DATES: We must receive comments on this proposed AD by October 19, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer, ANM-116, International Branch, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Include the docket number “FAA-2005-22455; Directorate Identifier 2005-NM-095-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A300 B4-600, B4-600R, and F4-600R series airplanes, and Model C4-605R Variant F airplanes (collectively called A300-600 series airplanes); and Model A310-300 series airplanes. The DGAC advises that a production defect (abnormal wear of the gear at the end of the rotor shaft) was found on certain actuators during overhaul of the pilot's and co-pilot's seats. That defect could cause a deficiency in the seat control system and consequent uncommanded horizontal movement of the seats which is hazardous at high speeds during takeoff. Further investigation revealed that a batch of actuators were equipped with defective rotor shafts. These conditions, if not corrected, could result in uncommanded movement of the pilot's or co-pilot's seat, which could result in interference with the operation of the airplane and consequent temporary loss of airplane control.

Relevant Service Information

Airbus has issued Service Bulletins A300-25-6194 (for A300-600 series airplanes) and A310-25-2182 (for A310-300 series airplanes), both dated February 1, 2005. The service bulletins describe procedures for inspecting the pilot's and co-pilot's seats to determine if a certain actuator having a certain part number (P/N) is installed, and corrective action if necessary. The corrective action includes replacing any affected actuator with a new actuator. Accomplishing the actions specified in the service information is intended to adequately address the unsafe condition. The DGAC mandated the service information and issued French airworthiness directive F-2005-038, dated March 2, 2005, to ensure the continued airworthiness of these airplanes in France.

The proposed AD refers to Sogerma-Services Service Bulletin TAA12-25-616, dated November 30, 2004, as an additional source of service information for accomplishing the actuator replacement.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the Airbus service information described previously, except as discussed under “Differences Between the Proposed AD and Service Information.”

Differences Between the Proposed AD and Service Information

The French airworthiness directive requires inspecting the pilot's and co-pilot's seats to determine if a certain seat having a certain P/N is installed, and if a certain actuator with a certain P/N is installed on the seat, but this proposed AD does not require an inspection for the P/N of the seat. The P/Ns for the seats are identified in the applicability section of this proposed AD; therefore, an inspection for that P/N is not necessary. Therefore, this AD requires an inspection for the actuator P/Ns only.

Although the service bulletins referenced in this proposed AD specify to submit an inspection report to the manufacturer, this proposed AD does not include that requirement.

Costs of Compliance

This proposed AD would affect about 169 airplanes of U.S. registry. The proposed inspection would take about 1 work hour per airplane, at an average labor rate of $65 per work hour. Based on these figures, the estimated cost of the proposed AD for U.S. operators is $10,985, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22455; Directorate Identifier 2005-NM-095-AD.

Comments Due Date

(a) The FAA must receive comments on this AD action by October 19, 2005.

Affected ADs

(b) None.

Applicability

(c) This AD applies to Airbus Model A300 B4-601, B4-603, B4-620, and B4-622 airplanes, A300 B4-605R and B4-622R airplanes, A300 F4-605R and F4-622R airplanes, and A300 C4-605R Variant F airplanes; and Airbus Model A310-304, -322, -324, and -325 airplanes; certificated in any category; equipped with Sogerma Socea powered seats having part number(P/N) TAAI2-13PE00-01, -13PE01-01, -13CE00-01, or 13CE01-01 installed.

Unsafe Condition

(d) This AD results from a production defect found in certain actuators during overhaul of the pilot's and co-pilot's seats. We are issuing this AD to prevent uncommanded movement of the pilot's or co-pilot's seat, which could result in interference with the operation of the airplane and consequent temporary loss of airplane control.

Compliance

(e) You are responsible for having the actions required by this AD performed within the compliance times specified, unless the actions have already been done.

Inspection for Actuator Part Numbers and Corrective Action

(f) Within 600 flight hours or 30 days after the effective date of this AD, whichever is first: Inspect to determine if a Messier Bugatti (Labinal) actuator with P/N 4136290004 or 4136290005 is installed on the pilot's or co-pilot's seat by doing all the actions specified in the Accomplishment Instructions of Airbus Service Bulletin A310-25-2182 (for A310-300 series airplanes) or A300-25-6194 (for A300-600 series airplanes), both dated February 1, 2005, as applicable.

(1) If no actuator with the identified P/N is installed, no further action is required by this paragraph.

(2) If any actuator with any identifiedP/N is installed: Within 6 months after the effective date of this AD, replace the affected actuator with a new actuator in accordance with the Accomplishment Instructions of the applicable service bulletin.

Note 1: Airbus Service Bulletins A310-25-2182 and A300-25-6194, both dated February 1, 2005, reference Sogerma-Services Service Bulletin TAA12-25-616, dated November 30, 2004, as an additional source of service information for accomplishing the actuator replacement.

Parts Installation

(g) After the effective date of this AD, no Messier Bugatti (Labinal) actuator with P/N 4136290004 or 4136290005 may be installed on any airplane.

No Reporting Required

(h) Although the service bulletins referenced in this AD specify to submit an inspection report to the manufacturer, this AD does not include that requirement.

Alternative Methods of Compliance (AMOCs)

(i) The Manager, International Branch, ANM-116, FAA, Transport Airplane Directorate, has the authority to approve AMOCs for this AD, if requested in accordance with the procedures found in 14 CFR 39.19.

Related Information

(j) French airworthiness directive F-2005-038, dated March 2, 2005, also addresses the subject of this AD.

Issued in Renton, Washington, on September 9, 2005.
Ali Bahrami,
Manager, Transport Airplane Directorate, Aircraft Certification Service.

[FR Doc. 05-18530 Filed 9-16-05; 8:45 am]

BILLING CODE 4910-13-P